ENVIRONMENTAL PROTECTION AGENCY

[FRL-7145-2]

Clean Water Act Section 303(d): Availability of Proposed Determinations That Total Maximum Daily Loads (TMDLs) Are Not Needed

AGENCY: Environmental Protection Agency (EPA).

ACTION: Notice of availability.

SUMMARY: This notice announces the availability for comment of EPA determinations that TMDLs are not needed for one hundred fifty waterbody/pollutant combinations in the Calcasieu and Ouachita River Basins because new data and information show that water quality standards (WQS) are currently being met. This proposed action would result in the removal of one hundred fifty waterbody/pollutant combinations from the Louisiana 303(d) list.

DATES: Comments on the proposed determinations that TMDLs are not needed must be submitted in writing to EPA on or before March 18, 2002.

ADDRESSES: Comments on the proposed determinations should be sent to Ellen Caldwell, Environmental Protection Specialist, Water Quality Protection Division, U.S. Environmental Protection Agency Region 6, 1445 Ross Ave., Dallas, TX 75202-2733. For further information, contact Ellen Caldwell at (214) 665-7513. Documents supporting the determinations that the TMDLs are not needed are available for public inspection at this address as well. Documents supporting the determinations that TMDLs are not needed also may be viewed at www.epa.gov/region6/water/tmdl.htm, or obtained by calling or writing Ms. Caldwell at the above address. Please contact Ms. Caldwell to schedule an inspection.

FOR FURTHER INFORMATION CONTACT: Ellen Caldwell at (214) 665-7513.

SUPPLEMENTARY INFORMATION: In 1996, two Louisiana environmental groups, the Sierra Club and Louisiana Environmental Action Network (plaintiffs), filed a lawsuit in Federal Court against the EPA, styled Sierra Club, et al. v. Clifford et al., No. 96-0527, (E.D. La.). Among other claims, plaintiffs alleged that EPA failed to establish Louisiana TMDLs in a timely manner. Discussion of the court's order may be found at 65 FR 54032 (September 6, 2000).

EPA Seeks Comments on Proposed Determinations That One Hundred Fifty TMDLs for Waterbody/Pollutant Combinations are not Needed based on the assessment of new data and information that show the TMDLs are currently meeting WQS:

Subsegment | Waterbody name | Pollutant
030103 | Calcasieu—Rapides-Allen Parish line to confluence with Marsh Bayou (Scenic) | Cadmium.
030201 | Calcasieu River—Confluence with Marsh Bayou to Salt-water Barrier | Cadmium.
030801 | West Fork Calcasieu River—From confluence of Beckwith Creek and Hickory Branch to Calcasieu River | Cadmium.
030103 | Calcasieu River—Rapides-Allen Parish line to confluence with Marsh Bayou (Scenic) | Copper.
030201 | Calcasieu River—Confluence with Marsh Bayou to Salt-water Barrier | Copper.
030801 | West Fork Calcasieu River—From confluence of Beckwith Creek and Hickory Branch to Calcasieu River | Copper.
030702 | English Bayou—Headwaters to Calcasieu River | Lead.
030801 | West Fork Calcasieu River—From confluence of Beckwith Creek and Hickory Branch to Calcasieu River | Lead.
030702 | English Bayou—Headwaters to Calcasieu River | Mercury.
030306 | Bayou Verdine (Estuarine) | Oil & grease.
030901 | Bayou D'Inde—Headwaters to Calcasieu River (Estuarine) | Oil & grease.
030301 | Calcasieu River and Ship Channel—Salt-water Barrier to below Moss Lake (Estuarine, includes Coon Island and Clooney Island Loops) | Pathogen indicators.
030302 | Lake Charles (Estuarine) | Pathogen indicators.
030401 | Calcasieu River—Calcasieu Ship Channel below Moss Lake to the Gulf of Mexico (Estuarine, includes Monkey Island Loop) | Pathogen indicators.
030402 | Calcasieu Lake (Estuarine) | Pathogen indicators.
030901 | Bayou D'Inde—Headwaters to Calcasieu River (Estuarine) | Pathogen indicators.
030201 | Calcasieu River—Confluence with Marsh Bayou to Salt-water Barrier | Suspended solids.
030103 | Calcasieu River—Rapides-Allen Parish line to confluence with Marsh Bayou (Scenic) | Suspended solids.
030201 | Calcasieu River—Confluence with Marsh Bayou to Salt-water Barrier | Turbidity.
030103 | Calcasieu River—Rapides-Allen Parish line to confluence with Marsh Bayou (Scenic) | Turbidity.
080301 | Black River—Jonesville to Corps of Engineers Control Structure (at mile 25, Serena) | Cadmium.
081501 | Castor Creek—Headwaters to Little River | Cadmium.
081401 | Dugdemona River—Headwaters to junction with Big Creek | Cadmium.
081601 | Little River—Confluence of Castor Creek and Dugdemona River to junction with Bear Creek (Scenic) | Cadmium.
081602 | Little River—From Bear Creek to Catahoula Lake (Scenic) | Cadmium.
080101 | Ouachita River—Arkansas State Line to Columbia Lock and Dam (Scenic from the Arkansas state line to intersection with Bayou Bartholomew—22 miles) | Cadmium.
080501 | Bayou de L'Outre—Arkansas State Line to Ouachita River (Scenic) | Chlorides.
081611 | Bayou Funny Louis | Chlorides.
080903 | Big Creek—Headwaters to Boeuf River (including Big Colewa Bayou) | Chlorides.
080901 | Boeuf River—Arkansas State Line to Ouachita River | Chlorides.
081603 | Catahoula Lake | Chlorides.
080609 | Corney Bayou—From Corney Lake to Bayou D'Arbonne Lake (Scenic) | Chlorides.
081402 | Dugdemona River—From Big Creek to Little River | Chlorides.
081601 | Little River—Confluence of Castor Creek and Dugdemona River to junction with Bear Creek (Scenic) | Chlorides.
081602 | Little River—From Bear Creek to Catahoula Lake (Scenic) | Chlorides.
080610 | Middle Fork of Bayou D'Arbonne—From origin to Bayou D'Arbonne Lake (Scenic) | Chlorides.
081201 | Tensas River—Headwaters to Jonesville (including Tensas Bayou) | Chlorides.
080301 | Black River—Jonesville to Corps of Engineers Control Structure (at mile 25, Serena) | Copper.
081501 | Castor Creek—Headwaters to Little River | Copper.
081604 | Catahoula Lake Diversion Canal—Catahoula Lake to Black River | Copper.
081402 | Dugdemona River—From Big Creek to Little River | Copper.
081401 | Dugdemona River—Headwaters to junction with Big Creek | Copper.
081601 | Little River—Confluence of Castor Creek and Dugdemona River to junction with Beart Creek (Scenic) | Copper.
081602 | Little River—From Bear Creek to Catahoula Lake (Scenic) | Copper.
080101 | Ouachita River—Arkansas State Line to Columbia Lock and Dam (Scenic from the Arkansas state line to intersection with Bayou Bartholomew—22 miles) | Copper.
080201 | Ouachita River—Columbia Lock and Dam to Joneville | Copper.
080101 | Ouachita River—Arkansas State Line to Columbia Lock and Dam (Scenic from the Arkansas state line to intersection with Bayou Bartholomew—22 miles) | Dioxins, priority organics.
080401 | Bayou Bartholomew—Arkansas State Line to Dead Bayou (Lake Bartholomew Scenic) | Lead.
080605 | Bayou D'Arbonne—From Bayou D'Arbonne Lake to Ouachita River (Scenic) | Lead.
080603 | Bayou D'Arbonne—From Lake Claiborne to Bayou D'Arbonne Lake | Lead.
080604 | Bayou D'Arbonne Lake | Lead.
080501 | Bayou de L'Outre—Arkansas State Line to Ouachita River (Scenic) | Lead
081503 | Beaucoup Creek—Headwaters to Castor Creek | Lead.
080301 | Black River—Jonesville to Corps of Engineers Control Structure (at mile 25, Serena) | Lead.
081501 | Castor Creek—Headwaters to Little River | Lead.
081604 | Catahoula Lake Diversion Canal—Catahoula Lake to Black River | Lead.
080609 | Corney Bayou—From Corney Lake to Bayou D'Arbonne Lake (Scenic) | Lead.
081402 | Dugdemona River—From Big Creek to Little River | Lead.
081401 | Dugdemona River—Headwaters to junction with Big Creek | Lead.
081601 | Little River—Confluence of Castor Creek and Dugdemona River to junction with Bear Creek (Scenic) | Lead.
081602 | Little River—From Bear Creek to Catahoula Lake (Scenic) | Lead.
080610 | Middle Fork of Bayou D'Arbonne—From origin to Bayou D'Arbonne Lake (Scenic) | Lead.
080101 | Ouachita River—Arkansas State Line to Columbia Lock and Dam (Scenic from the Arkansas state line to intersection with Bayou Bartholomew—22 miles) | Lead.
080201 | Ouachita River—Columbia Lock and Dam to Jonesville | Lead.
081201 | Tensas River—Headwaters to Jonesville (including Tensas Bayou) | Lead.
080605 | Bayou D'Arbonne—From Bayou D'Arbonne Lake to Ouachita River (Scenic) | Mercury.
080501 | Bayou de L'Outre—Arkansas State Line to Ouachita River (Scenic) | Mercury.
080904 | Bayou Lafourche—Near Oakridge to Boeuf River near Columbia | Mercury.
080301 | Black River—Jonesville to Corps of Engineers Control Structure (at mile 25, Serena) | Mercury.
080901 | Boeuf River—Arkansas State Line to Ouachita River | Mercury.
081501 | Castor Creek—Headwaters to Little River | Mercury.
081402 | Dugdemona River—From Big Creek to Little River | Mercury.
081401 | Dugdemona River—Headwaters to junction with Big Creek | Mercury.
081602 | Little River—From Bear Creek to Catahoula Lake (Scenic) | Mercury.
080201 | Ouachita River—Columbia Lock and Dam to Jonesville | Mercury.
081401 | Dugdemona River—Headwaters to junction with Big Creek | Non-priority organics.
081601 | Little River—Confluence of Castor Creek and Dugdemona River to junction with Bear Creek (Scenic) | Non-priority organics.
081203 | Lake Bruin (Oxbow Lake) | Nutrients.
081501 | Castor Creek—Headwaters to Little River | Oil & grease.
081601 | Little River—Confluence of Castor Creek and Dugdemona River to junction with Bear Creek (Scenic) | Oil & grease.
081602 | Little River—From Bear Creek to Catahoula Lake (Scenic) | Oil & grease.
081611 | Bayou Funny Louis | Oil & grease.
081603 | Catahoula Lake | Oil & grease.
081001 | Bayou Macon—Arkansas State Line to Tensas River | Organic enrichment/Low DO.
081203 | Lake Bruin (Oxbow Lake) | Organic enrichment/Low DO.
080401 | Bayou Bartholomew—Arkansas State Line to Dead Bayou (Lake Bartholomew Scenic) | Other inorganics.
080603 | Bayou D'Arbonne—From Lake Claiborne to Bayou D'Arbonne Lake | Other inorganics.
081201 | Tensas River—Headwaters to Jonesville (including Tensas Bayou) | Other inorganics.
080905 | Turkey Creek—Headwaters to Turkey Creek Cutoff and Turkey Creek Cutoff to Big Creek including Glade Slough | Other inorganics.
080401 | Bayou Bartholomew—Arkansas State Line to Dead Bayou (Lake Bartholomew Scenic) | Pathogen indicators.
080904 | Bayou Lafourche—Near Oakridge to Boeuf River near Columbia | Pathogen indicators.
081501 | Castor Creek—Headwaters to Little River | Pathogen indicators.
081609 | Hemphill Creek—Headwaters to Catahoula Lake (includes Hair Creek) | Pathogen indicators.
080902 | Bayou Bonne Idee—Headwaters to Boeuf River | Pesticides.
080301 | Black River—Jonesville to Corps of Engineers Control Structure (at mile 25, Serena) | Pesticides.
080302 | Black River—Corps of Engineer Control Structure to Red River | Pesticides.
080910 | Clear Lake | Pesticides.
080909 | Crew Lake | Pesticides.
081202 | Lake St. Joseph (Oxbow Lake) | Pesticides.
080101 | Ouachita River—Arkansas State Line to Columbia Lock and Dam (Scenic from the Arkansas state line to intersection with Bayou Bartholomew—22 miles) | Pesticides.
080201 | Ouachita River—Columbia Lock and Dam to Jonesville | Pesticides.
080905 | Turkey Creek—Headwaters to Turkey Creek Cutoff and Turkey Creek Cutoff to Big Creek including Glade Slough | Pesticides.
080401 | Bayou Bartholomew—Arkansas State Line to Dead Bayou (Lake Bartholomew Scenic) | Pesticides.
080904 | Bayou Lafourche—Near Oakridge to Boeuf River near Columbia | Pesticides.
080202 | Bayou Louis | Pesticides.
081203 | Lake Bruin (Oxbow Lake) | Pesticides.
080102 | Bayou Chauvin | pH.
080501 | Bayou de L'Outre—Arkansas State Line to Ouachita River (Scenic) | Salinity/TDS.
080903 | Big Creek—Headwaters to Boeuf River (including Big Colewa Bayou) | Salinity/TDS.
081603 | Catahoula Lake | Salinity/TDS.
080609 | Corney Bayou—From Corney Lake to D'Arbonne Lake | Salinity/TDS.
081402 | Dugdemona River—From Big Creek to Little River | Salinity/TDS.
081601 | Little River—Confluence of Castor Creek and Dugdemona River to junction with Bear Creek (Scenic) | Salinity/TDS.
081602 | Little River—From Bear Creek to Catahoula Lake (Scenic) | Salinity/TDS.
080610 | Middle Fork of Bayou D'Arbonne—From origin to Bayou D'Arbonne Lake (Scenic) | Salinity/TDS.
081201 | Tensas River—Headwaters to Jonesville (including Tensas Bayou) | Salinity/TDS.
080901 | Boeuf River—Arkansas State Line to Ouachita River | Salinity/TDS.
081611 | Bayou Funny Louis | Salinity/TDS.
080302 | Black River—Corps of Engineers Control Structure to Red River | Siltation.
081602 | Little River—From Bear Creek to Catahoula Lake (Scenic) | Siltation.
080201 | Ouachita River—Columbia Lock and Dam to Jonesville | Siltation.
080501 | Bayou de L'Outre—Arkansas State Line to Ouachita River (Scenic) | Sulfates.
081611 | Bayou Funny Louis | Sulfates.
080903 | Big Creek—Headwaters to Boeuf River (including Big Colewa Bayou) | Sulfates.
080901 | Boeuf River—Arkansas State Line to Ouachita River | Sulfates.
081501 | Castor Creek—Headwaters to Little River | Sulfates.
081603 | Catahoula Lake | Sulfates.
080609 | Corney Bayou—From Corney Lake to Bayou D'Arbonne Lake (Scenic) | Sulfates.
081402 | Dugdemona River—From Big Creek to Little River | Sulfates.
081601 | Little River—Confluence of Castor Creek and Dugdemona River to junction with Bear Creek (Scenic) | Sulfates.
081602 | Little River—From Bear Creek to Catahoula Lake (Scenic) | Sulfates.
080610 | Middle Fork of Bayou D'Arbonne—From origin to Bayou D'Arbonne Lake (Scenic) | Sulfates.
081201 | Tensas River—Headwaters to Jonesville (including Tensas Bayou) | Sulfates.
080401 | Bayou Bartholomew—Arkansas State Line to Dead Bayou (Lake Bartholomew Scenic) | Suspended solids.
080902 | Bayou Bonne Idee—Headwaters to Boeuf River | Suspended solids.
080605 | Bayou D'Arbonne—From Bayou D'Arbonne Lake to Ouachita River (Scenic) | Suspended solids.
080603 | Bayou D'Arbonne—From Lake Claiborne to Bayou D'Arbonne Lake | Suspended solids.
081501 | Castor Creek—Headwaters to Little River | Suspended solids.
080609 | Corney Bayou—From Corney Lake to Bayou D'Arbonne Lake (Scenic) | Suspended solids.
080905 | Turkey Creek—Headwaters to Turkey Creek Cutoff and Turkey Creek Cutoff to Big Creek including Glade Slough | Suspended solids.
080101 | Ouachita River—Arkansas State Line to Columbia Lock and Dam (Scenic from the Arkansas state line to intersection with Bayou Bartholomew—22 miles) | Suspended solids.
081402 | Dugdemona River—From Big Creek to Little Creek | Turbidity.
081601 | Little River—Confluence of Castor Creek and Dugdemona River to junction with Bear Creek (Scenic) | Turbidity.
081602 | Little River—From Bear Creek to Catahoula Lake (Scenic) | Turbidity.
080905 | Turkey Creek—Headwaters to Turkey Creek Cutoff and Turkey Creek Cutoff to Big Creek including Glade Slough | Turbidity.
080401 | Bayou Bartholomew—Arkansas State Line to Dead Bayou (Lake Bartholomew Scenic) | Turbidity.
081611 | Bayou Funny Louis | Turbidity.
080610 | Middle Fork of Bayou D'Arbonne— From origin to Bayou D'Arbonne Lake (Scenic) | Turbidity.
080101 | Ouachita River—Arkansas State Line to Columbia Lock and Dam (Scenic from the Arkansas state line to intersection with Bayou Bartholomew—22 miles) | Turbidity.
080301 | Black River—Jonesville to Corps of Engineers Control Structure (at mile 25, Serena) | Unknown toxicity.

EPA requests that the public provide to EPA any water quality related data and information that may be relevant to these proposed determinations that TMDLs are not needed. EPA will review all data and information submitted during the public comment period and revise the determinations where appropriate.

Dated: February 5, 2002.
Oscar Ramirez, Jr.,
Acting Director, Water Quality Protection Division, Region 6.

[FR Doc. 02-3659 Filed 2-13-02; 8:45 am]

BILLING CODE 6560-50-P